NATIONAL FOUNDATION ON THE ARTS AND THE HUMANITIES

National Endowment for the Humanities

Meeting of Humanities Panel

AGENCY: National Endowment for the Humanities, National Foundation on the Arts and the Humanities.

ACTION: Notice of meeting.

SUMMARY: The National Endowment for the Humanities (NEH) will hold fourteen meetings, by videoconference, of the Humanities Panel, a federal advisory committee, during October 2022. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: October 4, 2022

This video meeting will discuss applications on the topics of Literary and Cultural Studies, for the Humanities Collections and Reference Resources grant program, submitted to the Division of Preservation and Access.

2. Date: October 14, 2022

This video meeting will discuss applications on the topic of World Studies (Pre-Modern), for the Humanities Collections and Reference Resources grant program, submitted to the Division of Preservation and Access.

3. Date: October 18, 2022

This video meeting will discuss applications on the topic of U.S. History (Pre-1900), for the Humanities Collections and Reference Resources grant program, submitted to the Division of Preservation and Access.

4. Date: October 19, 2022

This video meeting will discuss applications on the topic of U.S. History, for the Media Projects: Production Grants program, submitted to the Division of Public Programs.

5. Date: October 19, 2022

This video meeting will discuss applications on the topic of U.S. History (African American Studies), for the Humanities Collections and Reference Resources grant program, submitted to the Division of Preservation and Access.

6. Date: October 20, 2022

This video meeting will discuss applications on the topics of Film and Media Studies, for the Humanities Collections and Reference Resources grant program, submitted to the Division of Preservation and Access.

7. Date: October 20, 2022

This video meeting will discuss applications on the topic of American Studies, for the Public Humanities Projects: Exhibitions (Implementation) grant program, submitted to the Division of Public Programs.

8. Date: October 21, 2022

This video meeting will discuss applications on the topic of Historic Sites, for the Public Humanities Projects: Historic Places (Implementation) grant program, submitted to the Division of Public Programs.

9. Date: October 25, 2022

This video meeting will discuss applications on the topic of Place-based History, for the Public Humanities Projects: Exhibitions (Implementation) grant program, submitted to the Division of Public Programs.

10. Date: October 25, 2022

This video meeting will discuss applications on the topic of U.S. History (Regional, State, and Local), for the Humanities Collections and Reference Resources grant program, submitted to the Division of Preservation and Access.

11. Date: October 26, 2022

This video meeting will discuss applications on the topic of History, for the Media Projects: Production Grants program, submitted to the Division of Public Programs.

12. Date: October 27, 2022

This video meeting will discuss applications on the topic of Podcasts, for the Media Projects: Production Grants program, submitted to the Division of Public Programs.

13. Date: October 27, 2022

This video meeting will discuss applications on the topics of Art and Architectural History, for the Humanities Collections and Reference Resources grant program, submitted to the Division of Preservation and Access.

14. Date: October 28, 2022

This video meeting will discuss applications on the topics of Arts and Culture, for the Media Projects: Production Grants program, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: September 8, 2022.
Samuel Roth,
Attorney-Advisor, National Endowment for the Humanities.

[FR Doc. 2022-19797 Filed 9-13-22; 8:45 am]

BILLING CODE 7536-01-P